DEPARTMENT OF TRANSPORTATION

Coast Guard

[USCG 2001-11237]

Information Collection Under Review by the Office of Management and Budget (OMB): 2115-0596 and 2115-0597

AGENCY: Coast Guard, DOT.

ACTION: Request for comments.

SUMMARY: In compliance with the Paperwork Reduction Act of 1995, this request for comments announces that the Coast Guard has forwarded two Information Collection Reports (ICRs) abstracted below to the Office of Information and Regulatory Affairs (OIRA) of the Office of Management and Budget (OMB) for review and comment. Our ICRs describe the information we seek to collect from the public. Review and comment by OIRA ensures that we impose only paperwork burdens commensurate with our performance of duties.

DATES: Please submit comments on or before April 25, 2002.

ADDRESSES: To make sure that your comments and related material do not enter the docket [USCG 2001-11237] more than once, please submit them by only one of the following means:

(1)(a) By mail to the Docket Management Facility, U.S. Department of Transportation, room PL-401, 400 Seventh Street SW., Washington, DC 20590-0001. (b) OIRA, 725 17th Street NW., Washington, DC 20503, to the attention of the Desk Officer for the Coast Guard. Caution: Because of recent delays in the delivery of mail, your comments may reach the Facility more quickly if you choose one of the other means described below.

(2)(a) By delivery to room PL-401 at the address given in paragraph (1)(a) above, between 9 a.m. and 5 p.m., Monday through Friday, except Federal holidays. The telephone number is 202-366-9329. (b) OIRA, at the address given in paragraph (1)(b) above, to the attention of the Desk Officer for the Coast Guard.

(3) By fax to (a) the Docket Management Facility at 202-493-2251 or (b) OIRA 202-395-7285, attention: Desk Officer for the Coast Guard.

(4)(a) Electronically through the Web Site for the Docket Management System at http://dms.dot.gov. (b) OIRA does not have a Web site on which you can post your comments.

The Docket Management Facility maintains the public docket for this notice. Comments and material received from the public, as well as documents mentioned in this notice as being available in the docket, will become part of this docket and will be available for inspection or copying at room PL-401 (Plaza level), 400 Seventh Street SW., Washington, DC, between 9 a.m. and 5 p.m., Monday through Friday, except Federal holidays. You may also find this docket on the Internet at http://dms.dot.gov.

Copies of the complete ICRs are available for inspection and copying in public dockets. Copies are available in docket USCG 2001-11237 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION

Regulatory History

This request constitutes the 30-day notice required by OIRA. The Coast Guard has already published [66 FR 64336 (December 12, 2001)] the 60-day notice required by OIRA. That notice elicited no comments.

Request for Comments

The Coast Guard invites comments on the proposed collection of information to determine whether the collection is necessary for the proper performance of the functions of the Department. In particular, the Coast Guard would appreciate comments addressing: (1) The practical utility of the collection; (2) the accuracy of the Department's estimated burden of the collection; (3) ways to enhance the quality, utility, and clarity of the information that is the subject of the collection; and (4) ways to minimize the burden of collection on respondents, including the use of automated collection techniques or other forms of information technology.

Comments, to DMS or OIRA, must contain the OMB Control Number of the ICR addressed. Comments to DMS must contain the docket number of this request, USCG 2001-11106. Comments to OIRA are best assured of having their full effect if OIRA receives them 30 or fewer days after the publication of this request.

Information Collection Request

1. Title: Claims Under the Oil Pollution Act of 1990.

OMB Control Number: 2115-0596.

Type of Request: Extension of a currently approved collection.

Affected Public: Claimants and responsible parties of oil spills.

Forms: This collection of information does not require the public to fill out forms, but does require the public to provide initial information in writing. Follow-up information, if necessary, may be provided by letter, fax or e-mail.

Abstract: The Coast Guard will use the information collected to determine whether claims submitted to the Oil Spill Liability Trust Fund are compensable and, if they are, to ensure that the Fund reimburses them in the correct amounts.

Annual Estimated Burden Hours: The estimated burden is 13,722 hours a year.

2. Title: State Access to the Oil Spill Liability Trust Fund for Removal Costs Under the Oil Pollution Act of 1990.

OMB Control Number: 2115-0597.

Type of Request: Extension of a currently approved collection.

Affected Public: State Governments.

Forms: This collection of information does not require the public to fill out Coast Guard forms, but does require the public to provide information in writing.

Abstract: The Coast Guard will use information provided by the State to the Coast Guard National Pollution Funds Center to determine whether expenditures submitted by the State to the Fund are compensable and, if they are, to ensure payment of the correct amount of funding from the Oil Spill Liability Trust Fund.

Annual Estimated Burden Hours: The estimated burden is 3 hours a year.

Dated: March 20, 2002.
V.S. Crea,
Director of Information and Technology.

[FR Doc. 02-7231 Filed 3-25-02; 8:45 am]

BILLING CODE 4910-15-P